DEPARTMENT OF COMMERCE

National Oceanic and Atmospheric Administration

RIN 0648-XA712

Endangered Species; File No. 16306

AGENCY: National Marine Fisheries Service (NMFS), National Oceanic and Atmospheric Administration (NOAA), Commerce.

ACTION: Issuance of permit.

SUMMARY: Notice is hereby given that the Maine Department of Marine Resources, (Gail Wippelhauser, Ph.D., Responsible Party), 21 State House Station, Augusta, ME 04333, has been issued a permit to take shortnose sturgeon for purposes of scientific research.

ADDRESSES: The permit and related documents are available for review upon written request or by appointment in the following offices:

Permits and Conservation Division, Office of Protected Resources, NMFS, 1315 East-West Highway, Room 13705, Silver Spring, MD 20910; phone (301) 427-8401; fax (301) 713-0376; and

Northeast Region, NMFS, 55 Great Republic Drive, Gloucester, MA 01930; phone (978) 281-9328; fax (978) 281-9394.

FOR FURTHER INFORMATION CONTACT: Colette Cairns or Malcolm Mohead, (301) 427-8401.

SUPPLEMENTARY INFORMATION: On September 21, 2011, notice was published in the Federal Register (76 FR 58471) that a request for a scientific research permit to take shortnose sturgeon had been submitted by the above-named organization. The requested permit has been issued under the authority of the Endangered Species Act of 1973, as amended (ESA; 16 U.S.C. 1531 et seq.) and the regulations governing the taking, importing, and exporting of endangered and threatened species (50 CFR parts 222-226).

The Maine Department of Marine Resources was issued a five-year permit to determine movement, natal river origin, and other vital population parameters of shortnose sturgeon in Maine waters. Researchers will capture adult and juvenile shortnose sturgeon, and lethally collect early life-stage shortnose sturgeon. Individuals will be measured, weighed, photographed, PIT tagged, Floy/T-bar tagged, tissue sampled, and boroscoped; subsets of fish will be apical spine sampled, anesthetized, lavaged, blood sampled, fin ray sectioned, or implanted or fitted with an internal or external telemetry tag.

Issuance of this permit, as required by the ESA, was based on a finding that such permit (1) was applied for in good faith, (2) will not operate to the disadvantage of such endangered or threatened species, and (3) is consistent with the purposes and policies set forth in section 2 of the ESA.

Dated: May 16, 2012.
Tammy C. Adams,
Acting Chief, Permits and Conservation Division, Office of Protected Resources, National Marine Fisheries Service.

[FR Doc. 2012-12364 Filed 5-21-12; 8:45 am]

BILLING CODE 3510-22-P